DEPARTMENT OF ENERGY

Federal Energy Regulatory Commission

18 CFR Parts 2 and 38

[Docket No. RM05-5-031; Order No.676-K]

Standards for Business Practices and Communication Protocols for Public Utilities

AGENCY: Federal Energy Regulatory Commission, Department of Energy.

ACTION: Final rule.

SUMMARY: The Federal Energy Regulatory Commission amends its regulations to incorporate by reference, with certain exceptions, the latest version (Version 004) of the Standards for Business Practices and Communication Protocols for Public Utilities adopted by the Wholesale Electric Quadrant (WEQ) of the North American Energy Standards Board (NAESB). The revisions made by NAESB in the WEQ Version 004 standards are designed to aid public utilities with the consistent and uniform implementation of requirements promulgated by the Commission as part of the pro forma Open Access Transmission Tariff (OATT).

DATES:

Effective date: This rule is effective April 28, 2025.

Incorporation by reference: The incorporation by reference of certain publications listed in this rule is approved by the Director of the Federal Register as of April 28, 2025.

Compliance dates: Public utilities whose tariffs do not automatically incorporate by reference all new NAESB standards without modification must submit compliance filings to comply with the requirements in the final rule no later than June 27, 2025.

Implementation dates: Public utilities must implement the cybersecurity standards in WEQ Version 004 by February 27, 2026. Public utilities must implement the remainder of the standards in WEQ Version 004 adopted in this final rule by August 27, 2026.

FOR FURTHER INFORMATION CONTACT: John O. Sillin (Technical Issues), Office of Energy Policy and Innovation, Federal Energy Regulatory Commission, 888 First Street NE, Washington, DC 20426, (202) 502-6548, John.Sillin@ferc.gov. Veronica Norman (Legal Issues), Office of the General Counsel, Federal Energy Regulatory Commission, 888 First Street NE, Washington, DC 20426, (202) 502-8751, Veronica.Norman@ferc.gov.

SUPPLEMENTARY INFORMATION:

Table of Contents

| Paragraph Nos.
I. Overview | 1
II. Background | 3
III. Comments on the NOPR | 9
IV. Discussion | 12
A. The NAESB WEQ Version 004 Standards | 12
B. Specific Standards Incorporated by Reference | 16
1. Modifications in Response to Commission Order Nos. 676-I and 676-J | 17
2. Modifications To Support Cybersecurity for the Wholesale Electric Industry | 21
3. Modifications To Complement NERC Reliability Standards | 23
4. Modifications to the WEQ OASIS Business Practice Standards | 24
5. Modifications To Coordinate Interchange Standards | 34
6. Modifications to Abbreviations, Acronyms, and Defined Terms | 36
7. Minor Corrections | 37
8. New Set of Cybersecurity Standards | 38
C. Standards That Will Not Be Incorporated by Reference | 39
D. Implementation Procedures | 43
V. Notice of Use of Voluntary Consensus Standards | 51
VI. Incorporation by Reference | 52
VII. Information Collection Statement | 80
VIII. Environmental Analysis | 85
IX. Regulatory Flexibility Act | 86
X. Document Availability | 89
XI. Effective Date and Congressional Notification | 92

I. Overview

1. In this final rule, the Federal Energy Regulatory Commission (Commission) amends its regulation at 18 CFR 2.27 and 38.1(b) to incorporate by reference, with certain exceptions, the latest version (Version 004) of the Standards for Business Practices and Communication Protocols for Public Utilities adopted by the Wholesale Electric Quadrant (WEQ) of the North American Energy Standards Board (NAESB) (WEQ Version 004 Standards) applicable to the wholesale electric industry. This final rule requires public utilities whose tariffs do not automatically incorporate by reference all new NAESB standards without modification to submit compliance filings to comply with the requirements in the final rule no later than June 27, 2025. Public utilities must implement the cybersecurity standards in WEQ Version 004 by February 27, 2026. Public utilities must implement the remainder of the standards in WEQ Version 004 adopted in this final rule by August 27, 2026.

2. The implementation of these standards will promote greater efficiency and reliability of public utilities' operations and consolidate and strengthen cybersecurity protections provided within the NAESB standards.¹

¹ NAESB has developed and adopted, in response to recommendations from the U.S. Department of Energy (DOE) and Sandia National Laboratories (Sandia Labs), a new set of business practice standards to strengthen cybersecurity protections.

II. Background

3. NAESB is an American National Standards Institute-accredited, non-profit standards development organization formed for the purpose of developing voluntary standards and model business practices that promote more competitive and efficient natural gas and electric markets.

4. Since 2006, in the Order No. 676 series of orders,² the Commission has incorporated by reference into its regulations NAESB's business practice standards and communication protocols for public utilities. As the Commission found in Order No. 676, adoption of consensus standards is appropriate because the consensus process helps ensure the reasonableness of the standards by requiring that the standards draw support from a broad spectrum of all segments of the industry. Moreover, since the industry itself conducts business under these standards, the Commission's regulations should reflect those standards that have the widest possible support.

² This series of orders began with the Commission's issuance of Standards for Bus. Practices & Commc'n Protocols for Pub. Utils., Order No. 676, 71 FR 26199 (May 4, 2006), 115 FERC ¶ 61,139 (2021).

5. The WEQ Version 004 Standards will replace the currently incorporated versions (Version 003.3) of those business practice standards.

6. On July 31, 2023, NAESB filed a report informing the Commission (Informational Report) that it had approved and published the WEQ Version 004 Standards. The WEQ Version 004 Standards include newly created standards, as well as modifications to existing standards, developed through the NAESB standards development process. The WEQ Version 004 Standards build upon the WEQ Version 003.3 Standards and include standards developed in response to the directives from Order Nos. 676-I and 676-J,³ business practice standards developed to support cybersecurity for the wholesale electric industry, modifications to complement the North American Electric Reliability Corporation (NERC) Reliability Standards, the new NAESB Base Contract for Sale and Purchase of Voluntary Renewable Energy Certificates (NAESB REC Contract), and standards to identify definitions for common grid services to support distributed energy resource interactions in response to a request submitted by the DOE, Lawrence Berkeley National Laboratory (Berkeley Lab), and Pacific Northwest National Laboratory (PNNL). Additionally, the WEQ Version 004 Standards include modifications applied to Open Access Same-Time Information Systems (OASIS) Business Practice Standards, the Coordinate Interchange Business Practice Standards, and the Abbreviations, Acronyms, and Defined Terms.

³ Standards for Bus. Practices & Commc'n Protocols for Pub. Utils., Order No. 676-I, 85 FR 1051 (Feb. 25, 2020), 170 FERC ¶ 61,062 (2020); Standards for Bus. Practices & Commc'n Protocols for Pub. Utils., No. 676-J, 86 FR 29491 (Jun. 2, 2021), 175 FERC ¶ 61,139 (2021).

7. The Informational Report includes an overview of all standard additions, modifications, and reservations applied to Version 004 of the WEQ Business Practice Standards and summarizes the deliberations that led to the changes. It also identifies changes to the existing standards that were considered but not adopted.

8. On April 25, 2024, the Commission issued a notice of proposed rulemaking (NOPR) proposing to amend its regulations to incorporate by reference, with certain enumerated exceptions, the WEQ Version 004 Standards applicable to public utilities.⁴

⁴ Standards for Bus. Pracs. & Commc'n Protocols for Pub. Utils., notice of proposed rulemaking, 89 FR 37147 (May 6, 2024), 187 FERC ¶ 61,033 (2024) (NOPR).

III. Comments on the NOPR

9. On July 2, 2024, Idaho Power Company (Idaho Power) submitted comments on the NOPR noting three discrepancies between the Version Notes for the WEQ Version 004 Standards and the noticed WEQ Version 004 Standards, which it asserts require correction.⁵ First, Idaho Power requests “clarification regarding whether Transmission Providers ‘may’ or ‘may not’ impose restrictions regarding the submission times and/or service duration of a Consolidation.” ⁶ Specifically, Idaho Power notes that “[i]n the Version Notes for Version 004, NAESB states that for standard WEQ 001-24.2.4 the intent was to replace ‘OASIS shall’ with ‘may’ and did not include removing the word ‘not’ which follows ‘shall.’ ” ⁷ Idaho Power asserts that the word “not” was removed in Version 004, which “provides the opposite meaning of the standard and further clarification is needed to resolve whether the Version Notes description of the change or Version 004 is correct.” ⁸ Second, Idaho Power notes that “Version Notes for 004 regarding standard WEQ 001-24.2.4 states that the word ‘consistent’ is to be added to the standard, yet the word ‘consent’ was added instead, which appears to be a typographical error.” ⁹ Thus, Idaho Power's comments sought clarification that the new standards establish that restrictions imposed by Transmission Providers are to be consistent with regulations and filed tariff provisions. Third and finally, Idaho Power notes that there was a “misnumbering that occurred with the addition of two new standards, [specifically] [s]tandards WEQ 002-101.2.10.3.3 and WEQ 002-101.2.10.3.4 are new standards that were placed after WEQ 022-101.2.10.4,” rather than before.¹⁰

⁵ Idaho Power Comments at 1.

⁶ Id.

⁷ Id. at 2.

⁸ Id.

⁹ Id.

¹⁰ Id.

10. On July 5, 2024, in response to Idaho Power's comments, NAESB proposed to its members Minor Correction MC24004 (Minor Correction) and identified publication errors that did not impact standards language.¹¹ In response to Idaho Power's first concern, NAESB states that Minor Correction MC24004 corrects an inadvertent typographical error to standards changes that were adopted and ratified by NAESB that included the addition of a new phrase “consistent with regulations and filed tariffs” at the end of the WEQ-001-24.2.4. However, it notes that in applying the ratified changes, the word “consistent” was inadvertently replaced with the word “consent.” The minor correction addresses this error and modifies the language to be consistent with the language ratified by NAESB membership on November 18, 2022.¹²

¹¹ NAESB July 5 Minor Correction Filing at 1.

¹² Id.

11. To address Idaho Power's other concerns, NAESB states that WEQ Version 004—WEQ-002-101.2.10.3.3 and WEQ-002-101.2.10.3.4—were ordered incorrectly and also notes that the WEQ Version 004 Notes for the changes made to WEQ-001-24.2.4 mistakenly omitted that “not” was deleted from the standard. NAESB further states that as these changes do not modify standards language, a minor correction is not needed, and it has taken administrative action to correct the errors.¹³

¹³ NAESB July 5 Minor Correction Filing at 2.

IV. Discussion

A. The NAESB WEQ Version 004 Standards

12. We adopt the NOPR proposal to amend Commission regulations at 18 CFR 2.27 and 38.1(b) to incorporate by reference, with certain enumerated exceptions, the WEQ Version 004 Standards. The Commission is incorporating by reference into the Commission's regulations at 18 CFR 38.1(b) the WEQ Version 004 Standards, with certain enumerated exceptions, which include modifications, reservations, and/or additions to the following set of existing standards that the Commission previously incorporated by reference, as well as one new standard (WEQ-024) relating to cyber-security:

Standard No. | Business practice standards
WEQ-000 | Abbreviations, Acronyms, and Definition of Terms.
WEQ-001 | OASIS.
WEQ-002 | OASIS Standards and Communication Protocol (S&CP).
WEQ-003 | OASIS Data Dictionary.
WEQ-004 | Coordinate Interchange.
WEQ-005 | Area Control Error Equation Special Cases.
WEQ-006 | Manual Time Error Correction.
WEQ-008 | Transmission Loading Relief (TLR)—Eastern Interconnection.
WEQ-012 | Public Key Infrastructure (PKI).
WEQ-013 | OASIS Implementation Guide.
WEQ-015 | Measurement and Verification of Wholesale Electricity Demand Response.
WEQ-021 | Measurement and Verification of Energy Efficiency Products.
WEQ-022 | Electric Industry Registry.
WEQ-023 | Modeling.
WEQ-024 | Cybersecurity Business Practice Standards.

13. The request for clarification presented by Idaho Power with regard to WEQ-001-24.2.4 has been addressed via NAESB Minor Correction MC24004. We are incorporating this revision.

14. Consistent with its past practice, as discussed further below, the Commission is not incorporating by reference WEQ-010 Contracts Related Business Practice Standards, WEQ-025 Grid Services Supporting Wholesale Electric Interactions, the WEQ-009 Standards of Conduct for Electric Transmission Providers, and the WEQ-014 WEQ/WGQ eTariff Related Business Practice Standards.¹⁴

¹⁴ Furthermore, WEQ-016, WEQ-017, WEQ-018, WEQ-019, and WEQ-020 are listed informationally in Commission regulations as non-mandatory guidance.

15. The WEQ Version 004 Standards include standards that were unchanged from previous Version 003.3 standards incorporated by reference: WEQ-007 Inadvertent Interchange Payback Business Practice Standards and WEQ-011, Gas/Electric Coordination. Likewise, the WEQ Version 004 Standards include standards that were unchanged from the previous Version 003.3 standards previously included in Commission regulations as non-mandatory guidance: WEQ-016, Specifications for Common Electricity Product and Pricing Definition; WEQ-017, Specifications for Common Schedule Communication Mechanism for Energy Transactions; WEQ-018, Specifications for Wholesale Standard Demand Response Signals; WEQ-019, Customer Energy Usage Information Communication; and WEQ-020, Smart Grid Standards Data Element Table.¹⁵

¹⁵ NOPR, 187 FERC ¶ 61,033 at PP 68-73.

B. Specific Standards Incorporated by Reference

16. The following section summarizes the NAESB standards that the Commission is incorporating by reference in this final rule. The standards are further described in section VI.

1. Modifications in Response to Commission Order Nos. 676-I and676-J

17. The WEQ Version 004 Standards contain modifications, prompted by directives in Order Nos. 676-I and 676-J and related industry-submitted standards requests, related to standards for redirection of transmission service, time error correction, and contract path management. Collectively, the revisions are designed to increase flexibility for transmission providers so they can maximize use of the transmission system while still preventing the provision of firm transmission service that exceeds transfer capability.

a. Standards for Redirection of Transmission Service

18. NAESB revised the WEQ-001, WEQ-003, and WEQ-013 standards to provide greater specificity regarding the transmission service reservation process that applies to redirection of transmission service (redirects) on a firm and non-firm basis.

b. Time Error Correction

19. NAESB revised WEQ-006 Manual Time Error Correction Business Practice Standards to address commercial requirements for entities calling for manual time error corrections in accordance with the NERC Time Monitoring Reference Document Version 5.¹⁶

¹⁶ Order No. 676-I, 170 FERC ¶ 61,062 at P 46.

c. Contract Path Management

20. NAESB modified the WEQ-023 Modeling Business Practice Standards to allow the contract path limit to be exceeded for a certain period of time prior to the start of flow.¹⁷ Specifically, the revisions to WEQ-023-1.4 and WEQ-023-1.4.1 will better accommodate individual transmission provider business practices that may, for scheduling efficiency purposes, allow a contract path limit to be exceeded for a certain period prior to the implementation of the interchange schedule.¹⁸

¹⁷ Informational Report at 8.

¹⁸ Informational Report at 8.

2. Modifications To Support Cybersecurity for the Wholesale Electric Industry

21. In addition to proposing a new set of standards, WEQ-024 Cybersecurity Business Practice Standards, NAESB made modifications to WEQ-012 to support the issuance of server-side or transport layer security certificates by NAESB Authorized Certification Authorities (ACA).

22. The modifications to WEQ-012 standards incorporate best industry practices regarding the issuance of server-side or transport layer security server certificates by a certificate authority and allow a NAESB ACA to issue code-signing certificates that can be used to verify software and other executables in support of the NERC CIP-010 Security—Configuration Change Management and Vulnerability Assessments Reliability Standard.

3. Modifications To Complement NERC Reliability Standards

23. WEQ Version 004 Standards include revisions to the NAESB standards to complement the NERC Reliability Standards, including modifications to be consistent with the NERC Glossary. The changes were made to provide further clarity on the incorporation of jointly owned units into the Area Control Error (ACE) equation and to ensure consistency in the use of terminology between the WEQ Business Practice Standards and the NERC Dynamic Transfer Reference Document, which provides reliability guidance on the use of pseudo-ties and dynamic schedules in a balancing authority's ACE equations.

4. Modifications to the WEQ OASIS Business Practice Standards

24. In addition to the OASIS modifications referenced previously, NAESB completed nine final actions modifying the OASIS suite of Business Practice Standards.

a. Eligibility and Treatment of Rollover Rights

25. NAESB developed modifications to the WEQ OASIS suite of Business Practice Standards to address the eligibility and treatment of rollover rights ¹⁹ as part of the standards supporting Network Integration Transmission Service (NITS).²⁰ The new and revised standards define if, and when, rollover rights are assigned, update posting requirements and establish supporting template structures, and create dynamic notifications within OASIS for rollover rights.

¹⁹ A Rollover Right is the option held by an existing firm transmission service customer to continue to take transmission service after a contract term expires. The contract “rolls over” or is, in effect, renewed. Promoting Wholesale Competition Through Open Access Non-Discriminatory Transmission Servs. by Pub. Utils.; Recovery of Stranded Costs by Pub. Utils. & Transmitting Utils., Order No. 888, 61 FR 21540 at 21604 (May 10, 1996), FERC Stats. & Regs. ¶ 31,036 (1996) (cross-referenced at 75 FERC ¶ 61,080), order on reh'g, Order No. 888-A, 62 FR 12274 (Mar. 14, 1997), FERC Stats. & Regs. ¶ 31,048 (cross-referenced at 78 FERC ¶ 61,220), order on reh'g, Order No. 888-B, 81 FERC ¶ 61,248 (1997), order on reh'g, Order No. 888-C, 82 FERC ¶ 61,046 (1998), aff'd in relevant part sub nom. Transmission Access Pol'y Study Grp. v. FERC, 225 F.3d 667 (D.C. Cir. 2000), aff'd sub nom. New York v. FERC, 535 U.S. 1 (2002).

²⁰ The standards addressing rollover rights for point-to-point transmission service were included in the WEQ Version 003.2 Standards, which were incorporated by reference in Order No. 676-I, 85 FR 10571 (February 25, 2020).

b. Submission of Variables Associated with NITS

26. Several modifications were made to WEQ-002 and WEQ-003 to give users the ability to submit specific lists of variables associated with NITS as part of the query/response functionality in OASIS templates.

c. Provide Consistency Between Standards Language

27. Modifications were made to WEQ-001 to provide greater consistency between the standards language included in WEQ-001-9.2 and WEQ-001-9.4.3 and WEQ-001-B Appendix B—Redirect Business Practice Standards Examples.

d. Improvements for OASIS Node Users

28. NAESB revised WEQ-002, WEQ-003, and WEQ-013 to establish a mechanism that enables OASIS node users to identify—in a single location—all service modifications made to an original transmission service request reservation.

e. Better Support Posting Requirements

29. NAESB developed modifications to WEQ-001 to better support transmission service posting requirements, included as part of 18 CFR 37.6, by adding specificity regarding the treatment of consolidations of transmission service requests. The revisions to the standards are designed to ensure parity between consolidated and non-consolidated transmission service requests and to eliminate the potential for a service increment to be created through consolidation that would otherwise be unavailable under a transmission provider's existing tariff processes.

f. Provide Greater Clarity Regarding Priorities Between a Firm Transmission Service Request and a Previously Queued Non-Firm Request

30. NAESB modified WEQ-001 by modifying Table 25-3, Priorities for Competing Reservations or Requests, to better describe how a competition is conducted between a firm transmission service request and a previously queued non-firm request or reservation.

g. Response Timing Standards

31. To extend response times for some functions to account for human performance, NAESB modified the timing tables included in WEQ-001-4.13, WEQ-001-25.1.8, and WEQ-001-105.1.5 to extend specific timing criteria for instances in which systems are not fully automated. These changes will be available for transmission providers and operators who do not have automated systems for responding to transmission service requests and will extend timing requirements that are deemed unreasonably strict for non-automated implementations.

h. Provide Greater Clarity for Transmission Customers

32. NAESB modified the WEQ OASIS suite of Business Practice Standards to provide greater clarity for transmission customers on which redirect requests would qualify for the conveyance of rollover rights. As part of the revisions, transmission customers are required to explicitly indicate their intent to convey rollover rights to the redirect path by expressly opting-in or opting-out of the conveyance, eliminating the possibility that rollover rights could be unintentionally redirected.

i. Improve Efficiencies by Creating a Tracking and Audit Mechanism for Transmission Service Reservations

33. NAESB revised the WEQ OASIS suite of Business Practice Standards to improve efficiencies by creating a tracking and audit mechanism for transmission service reservations that allows transmission providers and customers to easily assess changes that occur as a result of the preemption and right-of-first-refusal process.

5. Modifications to Coordinate Interchange Standards

34. NAESB revised the WEQ-004 Coordinate Interchange Business Practice Standards to promote efficiency by streamlining the procedures that entities should follow in the event of a system failure of the primary communication method used to manage interchange transactions—electronic tags (e-Tags).

35. NAESB also modified the WEQ-000 and WEQ-004 standards. The revisions add a new appendix to WEQ-004 to provide guidance and best practices to entities in the Eastern Interconnection that automate the net scheduled interchange checkout process.

6. Modifications to Abbreviations, Acronyms, and Defined Terms

36. In addition to the consistency changes described above regarding WEQ-000, the WEQ Version 004 Standards publication includes a new cross-reference column displaying the abbreviations, acronyms, and definition of terms with their corresponding NAESB WEQ Standards. Additional changes to ensure consistency in the use of abbreviations, acronyms, and defined terms were made to the WEQ OASIS Suite of Standards, WEQ-004 Coordinate Interchange Business Practice Standards, WEQ-008 TLR—Eastern Interconnection Business Practice Standards, WEQ-012 PKI Business Practice Standards, WEQ-022 Electric Industry Registry (EIR) Business Practice Standards, and WEQ-023 Modeling Business Practice Standards.

7. Minor Corrections

37. Since the publication of WEQ Version 003.3 standards, NAESB processed ten minor corrections applicable to the WEQ Business Practice Standards through its Minor Correction Process and incorporated them into the WEQ Version 004 Standard. The Commission also is incorporating by reference WEQ-001,Version 004, which includes Minor Correction MC24004 to standard WEQ-001-24.2.4 approved by the WEQ on August 9, 2024, as discussed above.

8. New Set of Cybersecurity Standards

38. In the WEQ Version 004 Standards, NAESB established a new set of cybersecurity-related business practice standards in WEQ-024. This new set of standards reorganizes existing NAESB cybersecurity business practice standards into a new suite of NAESB standards. NAESB made this change in response to an informal recommendation from the DOE and Sandia Labs that arose from the 2019 Surety Assessment of cybersecurity elements contained in the NAESB Business Practice Standards.

C. Standards That Will Not Be Incorporated by Reference

39. This final rule adopts the NOPR proposal to decline to incorporate by reference WEQ-009, WEQ-010, WEQ-014, and WEQ-025.

40. Declining to adopt WEQ-010 is consistent with our past practice of not incorporating by reference into our regulations any optional model contracts and related documents because we do not require the use of such contracts.

41. As stated in the NOPR, although we support NAESB's standards development for grid services, we decline to incorporate the WEQ-025 standards. We note that the proposed NAESB standards use terms that are similar to, but different from, terms in the pro forma OATT that could introduce confusion if the Commission were to incorporate these standards by reference.

42. Additionally, we decline to incorporate by reference the WEQ-009 Standards of Conduct for Electric Transmission Providers, which NAESB has eliminated as they duplicate the Commission's regulations. We also decline to incorporate by reference the WEQ-014 WEQ/WGQ eTariff Related Business Practice Standards, which provide an implementation guide describing the various mechanisms, data tables, code values/reference tables, and technical specifications used in the submission of electronic tariff filings to the Commission, because such submissions are governed by the Commission's eTariff regulations.

D. Implementation Procedures

43. In the NOPR, the Commission proposed that public utilities ²¹ whose tariffs do not automatically incorporate by reference all new NAESB standards without modification must submit compliance filings on the proposed NAESB standards nine months after publication of a final rule in the Federal Register.²² The Commission stated that those compliance filings must reflect the requirements of the final rule, any new waiver requests to comply with a part of the final rule, and any request to preserve any existing waivers. The Commission also proposed separate implementation schedules for the NAESB cybersecurity standards in WEQ Version 004 and for the remainder of the WEQ Version 004 standards.²³ In particular, the Commission proposed to require transmission providers to implement the NAESB cybersecurity standards in WEQ Version 004 within 12 months from the date of publication in the Federal Register of any final rule. The Commission proposed to require transmission providers to implement the remainder of the WEQ Version 004 standards adopted in this final rule within 18 months from the date of publication in the Federal Register of any final rule.

²¹ We continue to require those entities with reciprocity tariffs to modify their tariffs to include the WEQ Version 004 standards that we are incorporating by reference.

²² NOPR, 187 FERC ¶ 61,033 at P 45.

²³ Id. P 46.

44. We adopt the proposed implementation procedures in the NOPR with one modification. We direct public utilities whose tariffs do not automatically incorporate by reference all new NAESB standards without modification to submit their compliance filings no later than one hundred twenty (120) days after the date of publication of the final rule in the Federal Register, rather than the nine-month timeframe proposed in the NOPR. We believe that the detailed guidance that we provide below concerning the compliance filing process will simplify that process and will significantly reduce the work required to submit these compliance filings and, thus, supports the shortened timeframe to file the compliance filings.

45. To reflect the staggered implementation schedule, public utilities whose tariffs do not automatically incorporate by reference all new NAESB standards without modification must submit a single compliance filing that includes two separate tariff records in eTariff to comply with the requirements of this final rule.²⁴ Appendices 1 and 2 provide examples of the tariff records that should be filed through eTariff. The first tariff record must contain a proposed effective date 12 months after the date of publication of the final rule in the Federal Register. This tariff record requires the implementation of WEQ-024, Cybersecurity (Version 004, July 31, 2023) while continuing in effect the prior Version 003.3 standards. The second tariff must contain a proposed effective date effective date 18 months after the date of publication of the final rule in the Federal Register. This tariff record will require implementation of all the WEQ Version 004 standards adopted in the final rule.²⁵

²⁴ The compliance filings should be filed electronically in Tariff portal using Filing Code 80.

²⁵ Both tariff records must be filed using the same record ID as the currently effective tariff record, but with different proposed effective dates as described above.

46. In their compliance filings, public utilities must specify in the tariff records a list of all the NAESB standards incorporated by reference by the Commission, and also must include: (a) whether the standard is incorporated by reference by the public utility; (b) for those standards not incorporated by reference, the tariff provision that complies with the standard; and (c) a statement identifying any standards for which the public utility has been granted a waiver, extension of time, or other variance with respect to compliance with the standard.

47. In such a compliance filing, a public utility that makes any new waiver requests to comply with a part of the final rule or that makes any request to preserve any existing waivers must include such requests in its compliance filing. We encourage public utilities with waiver requests to submit their compliance filings early. Public utilities that are granted new or continued waiver(s) of any WEQ Version 004 standard(s) must make a second compliance filing to include the citation to the Commission order granting the waiver(s) of the relevant WEQ Version 004 standards no later than sixty (60) days after the waiver(s) are granted.

48. Those public utilities who have previously revised their tariffs to incorporate the complete set of NAESB standards without modification must implement: (1) the NAESB cybersecurity standards in WEQ Version 004 12 months after the date of publication of the final rule in the Federal Register; and (2) the remainder of the WEQ Version 004 standards adopted in this final rule 18 months after the date of publication of the final rule in the Federal Register.

49. Public utilities that now wish to comply with the final rule by incorporating the complete set of NAESB standards into their tariffs without modification may do so by submitting compliance filings that include the following language in their tariffs: “The current versions of the NAESB WEQ Business Practice Standards incorporated by reference into the Commission's regulations as specified in Part 38 of the Commission's regulations (18 CFR Part 38) are incorporated by reference into this tariff.”

50. Public utilities that submit this compliance filing to incorporate the complete set of NAESB standards into their tariffs without modification and public utilities that have previously incorporated the complete set of NAESB standards into their tariffs without modification must implement: (1) the NAESB cybersecurity standards in WEQ Version 004 12 months after the date of publication of the final rule in the Federal Register; and (2) the remainder of the WEQ Version 004 standards adopted in this final rule 18 months after the date of publication of the final rule in the Federal Register.

V. Notice of Use of Voluntary Consensus Standards

51. Office of Management and Budget Circular A-119 (section 11) (Feb. 10, 1998) provides that when a Federal agency issues or revises a regulation containing a standard, the agency should publish a statement in the final rule stating whether the adopted standard is a voluntary consensus standard or a government-unique standard. In this final rule, the Commission is incorporating by reference voluntary consensus standards developed by NAESB's WEQ. In section 12(d) of the National Technology Transfer and Advancement Act of 1995, Congress affirmatively requires Federal Agencies to use technical standards developed by voluntary consensus standards organizations, such as NAESB, as a means of carrying out policy objectives or activities unless use of such standards would be inconsistent with applicable law or otherwise impractical.²⁶

²⁶ Public Law 104-113, 12(d), 110 Stat. 775 (1996), 15 U.S.C. 272 note (1997).

VI. Incorporation by Reference

52. The Office of the Federal Register requires agencies incorporating material by reference in final rules to discuss, in the preamble of the final rule, the ways that the materials it incorporates by reference are reasonably available to interested parties and how interested parties can obtain the materials.²⁷ We do so below.

²⁷ 1 CFR 51.5. See Incorporation by Reference, 79 FR 66267 (Nov. 7, 2014).

53. The regulations also require agencies to summarize, in the preamble of the final rule, the material it incorporates by reference.²⁸ We summarize that material below. The standards we are incorporating by reference in this final rule consist of suites of NAESB WEQ Version 004 business practice standards that address a variety of topics and are designed to aid public utilities with the consistent and uniform implementation of requirements promulgated by the Commission as part of the pro forma Open Access Transmission Tariff. The standards we are incorporating by reference in this final rule can be summarized as follows:

²⁸ Id.

54. The WEQ-000 Abbreviations, Acronyms, and Definition of Terms Business Practice Standards provide a single location for all abbreviations, acronyms, and defined terms referenced in the WEQ Business Practice Standards. These standards provide common nomenclature for terms within the wholesale electric industry, thereby reducing confusion and opportunities for misinterpretation or misunderstandings among industry participants.

55. The OASIS suite of business practice standards (WEQ-001 Open Access Same-Time Information Systems (OASIS), WEQ-002 OASIS Standards and Communication Protocols, WEQ-003 OASIS Data Dictionary, and WEQ-013 OASIS Implementation Guide) support the FERC posting and reporting requirements that provide information about each transmission provider's performance of the requirements of its pro forma OATT. The OASIS system is used for scheduling transmission on the bulk power system, comprises the computer systems and associated communications facilities that public utilities are required to provide for the purpose of making available to all transmission users comparable interactions, and provides transmission service information and any back-end supporting systems or user procedures that collectively perform the transaction processing functions for handling requests on OASIS. These standards establish business practices and communication protocols that provide for consistent implementation across OASIS sites as well as consistent methods for posting to OASIS.

56. The WEQ-001 OASIS Business Practice Standards define the general and specific transaction processing requirements and related business processes required for OASIS. The standards detail requirements related to standard terminology for transmission and ancillary services, attribute values defining transmission service class and type, ancillary and other services definitions, OASIS registration procedures, procurement of ancillary and other services, path naming, next-hour market service, identical transmission service requests, redirects, resales, transfers, OASIS postings, procedures for addressing Available Transfer Capability or Available Flowgate Capability methodology questions, rollover rights, conditional curtailment option reservations, auding usage of Capacity Benefit Margin, coordination of requests for service across multiple transmission systems, consolidation, the preemption and right-of-first refusal process, and NITS requests.

57. The WEQ-002 OASIS Business Practice Standards and Communication Protocol (S&CP) define the technical standards for OASIS. These standards detail network architecture requirements, information access requirements, OASIS and point-to-point interface requirements, implementation, and NITS interface requirements.

58. The WEQ-003 OASIS Data Dictionary Business Practice Standards define the data element specifications for OASIS.

59. The WEQ-004 Coordinate Interchange Business Practice Standards define the commercial processes necessary to facilitate interchange transactions via Request for Interchange and specify the arrangements and data to be communicated by the entity responsible for authorizing the implementation of such transactions (the entities responsible for balancing load and generation).

60. The WEQ-005 Area Control Error (ACE) Equation Special Cases Business Practice Standards define commercial-based requirements regarding the obligations of a balancing authority to manage the difference between scheduled and actual electrical generation within its control area. Each balancing authority manages its ACE in accordance with the NERC Reliability Standards. These standards detail requirements for jointly owned utilities, supplemental regulation service, and load or generation transfer by telemetry.

61. The WEQ-006 Manual Time Error Correction Business Practice Standards specifies the Manual Time Error Correction procedures to be used for reducing the frequency drifting error to within acceptable limits of true time.

62. The WEQ-007 Inadvertent Interchange Payback Business Practice Standards define the methods in which inadvertent energy is paid back, mitigating the potential for financial gain through the misuse of paybacks for inadvertent interchange. Inadvertent interchange is interchange that occurs when a balancing authority cannot fully balance generation and load within its area. The standards allow for the repayment of any imbalances through bilateral in-kind payback, unilateral in-kind payback, or other methods as agreed to. WEQ-007 was not modified by the WEQ Version 004 Standards.

63. The WEQ-008 Transmission Loading Relief (TLR)-Eastern Interconnection Business Practice Standards define the business practices for cutting transmission service during a TLR event. These standards detail requirements for the use of interconnection-wide TLR procedures, interchange transaction priorities for use with interconnection-wide TLR procedures, and the Eastern Interconnection procedure for physical curtailment of interchange transactions.

64. The WEQ-011 Gas/Electric Coordination Business Practice Standards define communication protocols intended to improve coordination between the gas and electric industries in daily operational communications between transportation service providers and gas-fired power plants. The standards include requirements for communicating anticipated power generation fuel for the upcoming day as well as any operating problems that might hinder gas-fired power plants from receiving contractual gas quantities. WEQ-011 was not modified by the WEQ Version 004 Standards.

65. The WEQ-012 Public Key Infrastructure (PKI) Business Practice Standards establish the cybersecurity framework for parties partaking in transactions via a transmission provider's OASIS or e-Tagging system. The NAESB PKI framework secures wholesale electric market electronic commercial communications via encryption of data and the electronic authentication of parties to a transaction using a digital certificate issued by a NAESB certified certificate authority. The standards define the requirements for parties utilizing the digital certificates issued by the NAESB certificate authorities.

66. The WEQ-013 OASIS Implementation Guide Business Practice Standards detail the implementation of the OASIS Business Practice Standards. The standards detail requirements related to point-to-point OASIS transaction processing, OASIS template implementation, preemption and right-of-first-refusal processing, NITS application and modification of service processing, and secondary network transmission service.

67. The WEQ-015 Measurement and Verification (M&V) of Wholesale Electricity Demand Response (DR) Business Practice Standards define a common framework for transparency, consistency, and accountability applicable to the measurement and verification of wholesale electric market demand response practices. The standards describe performance evaluation methodology and criteria for the use of equipment, technology, and procedures to quantify the demand reduction value—the measurement of reduced electrical usage by a demand resource.

68. The WEQ-021 Measurement and Verification (M&V) of Energy Efficiency Products Business Practice Standards define a common framework for transparency, consistency, and accountability applicable to the measurement and verification of wholesale electric market energy efficiency practices. The standards establish energy efficiency measurement and verification criteria and define requirements for energy efficiency resource providers for the measurement and verification of energy efficiency products and services offered in the wholesale electric markets.

69. The WEQ-022 Electric Industry Registry Business Practice Standards define the business requirements for entities utilizing NAESB-managed Electric Industry Registry (EIR), a wholesale electric industry tool that serves as the central repository for information needed in the scheduling of transmission through electronic transactions. The standards describe the roles within EIR, registration requirements, and cybersecurity.

70. The WEQ-023 Modeling Business Practice Standards provide technical details concerning the calculation of ATC for wholesale electric transmission services. The WEQ-023 standards are intended to address the aspects of certain of the NERC MOD A Reliability Standards relating to modeling, data, and analysis that are included in NERC's proposed retirement of its MOD A Reliability Standards.

71. The WEQ-024 Cybersecurity Business Practice Standards is a new suite of standards established to include and maintain all cybersecurity related requirements not included within the PKI business standards.

72. The following standards are incorporated as non-mandatory guidance: WEQ-016, Specifications for Common Electricity Product and Pricing Definition standards address the business objectives and context for capturing the attributes associated with electricity price and product signals as part of the Smart Grid implementation, which is called for by National Institute of Standards and Technology (NIST) standards.

73. WEQ-017, Specifications for Common Schedule Communication Mechanism standards contain a set of specifications relating to the use of date- and time-based data elements that are commonly used in transactions for Demand Response programs.

74. WEQ-018, Specifications for Wholesale Standard Demand Response Signals standards address the business objectives and context for standardizing signals for demand response and distributed energy resources as part of the Smart Grid implementation, which is called for by NIST standards.

75. WEQ-019, Customer Energy Usage Information Communication standards establish the Business Practice Standards for end-use energy usage information communication.

76. WEQ-020, Smart Grid Standards Data Element Table standards contain the list of data elements used in Business Practice Standards WEQ-016 and WEQ-018.

77. As required by the Office of Federal Register regulations, the NAESB standards we incorporate by reference are reasonably available to interested parties and under the Commission's regulations, copies of the standards incorporated by reference may be obtained through purchase or otherwise from the North American Energy Standards Board, 801 Travis Street, Suite 1675, Houston, TX 77002, Phone: (713) 356-0060, website: https://www.naesb.org/. The standards can also be reviewed without purchasing them.

78. The procedures used by NAESB make its standards reasonably available to those affected by Commission regulations, which generally is comprised of entities that have the means to acquire the information they need to effectively participate in Commission proceedings. Participants can join NAESB, for an annual membership cost of $8,000, which entitles them to full participation in NAESB and enables them to obtain these standards at no additional cost. Non-members may obtain any of the ten individual standards manuals for $250 per manual, which in the case of these standards would total $2,500 for all ten manuals. Non-members also may obtain the complete set of Standards Manuals for $2,000.

79. NAESB provides ample opportunities for non-members, including agents, subsidiaries, and affiliates of NAESB members, to obtain access to the copyrighted standards through a no-cost limited copyright waiver. The limited copyright waivers are issued by the NAESB office and are granted to non-members on a case-by-case basis for the purpose of evaluating standards prior to purchase and/or reviewing the standards to prepare comments to a regulatory agency. Following the granting of a limited copyright waiver, the non-member is provided with read-only access to the standards through the end of the comment period or some other set period of time via Locklizard Safeguard Secure Viewer.²⁹ NAESB will grant one limited copyright wavier per company for each set of standards or final actions. Any entity seeking a limited copyright waiver should contact the NAESB office.

²⁹ For more information on Locklizard, please refer to the company's website: www.locklizard.com.

VII. Information Collection Statement

80. The following collection of information contained in this final rule is subject to review by the Office of Management and Budget (OMB) under section 3507(d) of the Paperwork Reduction Act of 1995, 44 U.S.C. 3507(d).³⁰ OMB's regulations require approval of certain information collection requirements imposed by agency rules.³¹ Upon approval of a collection(s) of information, OMB will assign an OMB control number and an expiration date. Respondents subject to the filing requirements of this rule will not be penalized for failing to respond to these collections of information unless the collections of information display a valid OMB control number.

³⁰ 44 U.S.C. 3507(d).

³¹ 5 CFR 1320.11.

81. The Commission solicited comments on the Commission's need for this information, whether the information will have practical utility, the accuracy of the provided burden estimates, ways to enhance the quality, utility, and clarity of the information to be collected, and any suggested methods for minimizing respondents' burden, including the use of automated information techniques.

82. The following burden estimate is based on the projected costs for the industry to implement the new and revised business practice standards adopted by NAESB and proposed to be incorporated by reference in the final rule.³² The NERC Compliance Registry, as of December 2023 identifies approximately 216 entities in the United States that are subject to this final rule.

³² Commission staff estimated that industry is similarly situated in terms of hourly cost (wages plus benefits). Based on the Commission average cost (wages plus benefits) for 2024, $100.00 is used.

Docket Nos. RM05-5-031
| Number of respondents | Annual number of responses per respondent | Total number of responses | Average burden (hrs.) & cost ($) per response | Total annual burden hrs. & total annual cost ($)
| (1) | (2) | (1) * (2) = (3) | (4) | (3) * (4) = (5)
FERC-516E | 216 | 1 | 216 | 6 hrs.; $600 | 1,296 hrs.; $129,600.
FERC-717 | 216 | 1 | 216 | 30 hrs.; $3,000 | 6,480 hrs.; $648,000.
Total |  |  |  | $3,600 | 7,776 hrs.; $777,600.

Costs to Comply with Paperwork Requirements:

The estimated annual costs are as follows:

FERC-516E: 216 entities × 1 response/entity × (6 hours/response × $100.00/hour) =$129,600

FERC-717: 216 entities × 1 response/entity × (30 hours/response × $100.00/hour) = $648,000

Titles: FERC-516E, Electric Rate Schedule and Tariff Filings and FERC-717, Standards for Business Practices and Communication Protocols for Public Utilities.

Action: Proposed amendment to regulations pertaining to the existing collections of information FERC-516E and FERC-717.

OMB Control Nos: 1902-0290 (FERC-516E) and 1902-0173 (FERC-717).

Respondents: Business or other for-profit, and not-for-profit institutions.

Frequency of Responses: On occasion.

Necessity of the Information: This final rule will amend the Commission's regulations to incorporate by reference, with certain enumerated exceptions, the NAESB WEQ Version 004 Standards. The standards include those that were developed in accordance with recommendations of the DOE-sponsored cybersecurity surety assessment of the NAESB Business Practice Standards that was conducted in 2019. Additional standards were developed in response to the directives from Order Nos. 676-I and 676-J. NAESB undertook two standards development efforts to update the WEQ-004 Coordinate Interchange Standards in the WEQ Version 004 Standards publication. The first set of modifications clarify existing back-up procedures for e-Tagging, improve efficiencies by removing requirements that supported outdated methods of communication, and streamline the processes following system communication failures. Through the second effort, NAESB modified WEQ-004 to provide guidance to balancing authorities in the Eastern Interconnection seeking to automate their net scheduled interchange checkout process. The revisions made by NAESB in the WEQ Version 004 Standards are designed to aid public utilities with the consistent and uniform implementation of requirements promulgated by the Commission as part of the pro forma Open Access Transmission Tariff.

Internal review: The Commission has reviewed NAESB's proposal and has made a preliminary determination that the Version 004 standards that the Commission incorporates by reference are both necessary and useful. In addition, the Commission has determined through internal review that there is specific, objective support for the burden estimates associated with the information requirements.

83. Interested persons may obtain information on the reporting requirements by contacting the Federal Energy Regulatory Commission, Office of the Executive Director, 888 First Street NE, Washington, DC 20426; attention: Kayla Williams, email: DataClearance@ferc.gov, phone: (202) 502-8663.

84. Comments concerning the collection of information(s) and the associated burden estimate(s) should be sent to the Commission at this docket and be emailed to the Office of Management and Budget, Office of Information and Regulatory Affairs; attention: Desk Officer for the Federal Energy Regulatory Commission. For security reasons, comments should be sent by email to OMB at the following email address: oira_submission@omb.eop.gov. Please refer to Docket No. RM05-5-031, and OMB Control Nos. 1902- 0290 (FERC-516E) and 1902-0173 (FERC-717), in your submission.

VIII. Environmental Analysis

85. The Commission is required to prepare an Environmental Assessment or an Environmental Impact Statement for any action that may have a significant adverse effect on the human environment.³³ The actions that we take here fall within categorical exclusions in the Commission's regulations for rules that are clarifying, corrective, or procedural, for information gathering, analysis, and dissemination, and for sales, exchange, and transportation of electric power that requires no construction of facilities.³⁴ Therefore, an environmental assessment is unnecessary and has not been prepared in this final rule.

³³ Regulations Implementing the National Environmental Policy Act, Order No. 486, 52 FR 47897 (Dec. 17, 1987), FERC Stats. & Regs. Preambles 1986-1990 ¶ 30,783 (1987) (cross-referenced at 41 FERC ¶ 61,284).

³⁴ See 18 CFR 380.4(a)(2)(ii) and (a)(5) and (27) (2022).

IX. Regulatory Flexibility Act

86. The Regulatory Flexibility Act of 1980 (RFA) ³⁵ generally requires a description and analysis of final rules that will have significant economic impact on a substantial number of small entities. The Commission is not required to make such an analysis if proposed regulations would not have such an effect.

³⁵ 5 U.S.C. 601-612.

87. The Small Business Administration (SBA) revised its size standards (effective January 22, 2014) for electric utilities from a standard based on megawatt hours to a standard based on the number of employees, including affiliates. Under SBA's standards, some transmission owners will fall under the following category and size threshold: electric bulk power transmission and control, at 500 employees.³⁶ The Commission estimates that 24 of the 216 respondents are small or 11.1 percent of the respondents affected by this final rule.

³⁶ 13 CFR 121.201, Sector 22 (Utilities0, NAICS code 221121 (Electric Bulk Transmission and Control).

88. The Commission estimates that the impact on these entities is consistent with the paperwork burden of $3,600 per entity used above.³⁷ The Commission does not consider $3,600 to be significant economic impact. Based on the above, the Commission certifies that implementation of the proposed Business Practice Standards will not have a significant impact on a substantial number of small entities. Accordingly, no initial regulatory flexibility analysis is required.

³⁷ 36 hours at $100.00/hour=$3,600.

X. Document Availability

89. In addition to publishing the full text of this document in the Federal Register, the Commission provides all interested persons an opportunity to view and/or print the contents of this document via the internet through the Commission's Home Page (www.ferc.gov/).

90. From the Commission's Home Page on the internet, this information is available on eLibrary. The full text of this document is available on eLibrary in PDF and Microsoft Word format for viewing, printing, and/or downloading. To access this document in eLibrary, type the docket number excluding the last three digits of this document in the docket number field.

91. User assistance is available for eLibrary and the Commission's website during normal business hours from FERC Online Support at 202-502-6652 (toll free at 1-866-208-3676) or email at ferconlinesupport@ferc.gov, or the Public Reference Room; (202) 502-8371, TTY (202)502-8659; email: public.referenceroom@ferc.gov.

XI. Effective Date and Congressional Notification

92. These regulations are effective April 28, 2025. Compliance dates: Public utilities whose tariffs do not automatically incorporate by reference all new NAESB standards without modification must submit a compliance filing to comply with the requirements of this final rule through eTariff no later than June 27, 2025.

93. Implementation dates: Public utilities must implement the cybersecurity standards in WEQ Version 004 by February 27, 2026. Public utilities must implement the remainder of the standards in WEQ Version 004 adopted in this final rule by August 27, 2026.

94. Incorporation by reference: The incorporation by reference of certain publications listed in this rule is approved by the Director of the Federal Register as of April 28, 2025.

95. The Commission has determined, with the concurrence of the Administrator of the Office of Information and Regulatory Affairs of OMB, that this rule is not a “major rule” as defined in section 351 of the Small Business Regulatory Enforcement Fairness Act of 1996. The final rule will be submitted to the Senate, House, and Government Accountability Office.

List of Subjects

18 CFR Part 2

Electric utilities, Natural gas, Pipelines, Reporting and recordkeeping requirements.

18 CFR Part 38

Business practice standards, Electric utilities, Incorporation by reference, Reporting and recordkeeping requirements.

By the Commission.
Issued: February 19, 2025.
Debbie-Anne A. Reese,
Secretary.

In consideration of the foregoing, the Commission amends 18 CFR parts 2 and 38 as follows:

PART 2—GENERAL POLICY AND INTERPRETATIONS

1. The authority citation for part 2 continues to read as follows:

Authority: 5 U.S.C. 601; 15 U.S.C. 717-717z, 3301-3432; 16 U.S.C. 792-828c, 2601-2645; 42 U.S.C. 4321-4370h, 7101-7352.

2. Revise and republish § 2.27 to read as follows:

§ 2.27 Availability of North American Energy Standards Board (NAESB) Smart Grid Standards as non-mandatory guidance.

The Commission informationally lists the following NAESB Business Practices Standards as non-mandatory guidance:

(a) WEQ-016, Specifications for Common Electricity Product and Pricing Definition, (WEQ Version 004, July 31, 2023);

(b) WEQ-017, Specifications for Common Schedule Communication Mechanism for Energy Transactions (WEQ Version 004, July 31, 2023);

(c) WEQ-018, Specifications for Wholesale Standard Demand Response Signals (WEQ Version 004, July 31, 2023);

(d) WEQ-019, Customer Energy Usage Information Communication (WEQ Version 004, July 31, 2023); and

(e) WEQ-020, Smart Grid Standards Data Element Table (WEQ Version 004, July 31, 2023).

(f) Copies of the standards in this section may be obtained from the North American Energy Standards Board, 801 Travis Street, Suite 1675, Houston, TX 77002, Tel: (713) 356-0060. NAESB's website is at https://www.naesb.org/.

PART 38—STANDARDS FOR PUBLIC UTILITY BUSINESS OPERATIONS AND COMMUNICATIONS

3. The authority citation for part 38 continues to read as follows:

Authority: 16 U.S.C. 791-825r, 2601-2645; 31 U.S.C. 9701; 42 U.S.C. 7101-7352.

4. Amend § 38.1 by revising paragraph (b) to read as follows:

§ 38.1 Incorporation by reference of North American Energy Standards Board Wholesale Electric Quadrant standards.

* * * * *

(b) The material listed in this paragraph (b) is incorporated by reference into this section with the approval of the Director of the Federal Register under 5 U.S.C. 552(a) and 1 CFR part 51. All approved material is available for inspection at the Federal Energy Regulatory Commission and at the National Archives and Records Administration (NARA). For assistance in viewing the material, contact the Federal Energy Regulatory Commission at: 888 First Street NE, Washington, DC 20426; phone: 202-502-8371; email: public.referenceroom@ferc.gov; website: www.ferc.gov. For information on the availability of this material at NARA, visit www.archives.gov/federal-register/cfr/ibr-locations or email fr.inspection@nara.gov. The material also may be obtained from the North American Energy Standards Board at: 801 Travis Street, Suite 1675, Houston, TX 77002; phone: (713) 356-0060; website: www.naesb.org/:

(1) WEQ-000, Abbreviations, Acronyms, and Definition of Terms, Version 004, July 31, 2023).

(2) WEQ-001, Open Access Same-Time Information Systems (OASIS), Version 004, July 31, 2023, (including Minor Correction MC24002 applied August 9, 2024).

(3) WEQ-002, Open Access Same-Time Information Systems (OASIS) Business Practice Standards and Communication Protocol (S&CP), Version 004, July 31, 2023.

(4) WEQ-003, Open Access Same-Time Information Systems (OASIS) Data Dictionary, Version 004, July 31, 2023.

(5) WEQ-004, Coordinate Interchange, Version 004, July 31, 2023.

(6) WEQ-005, Area Control Error (ACE) Equation Special Cases, Version 004, July 31, 2023.

(7) WEQ-006, Manual Time Error Correction, Version 004, July 31, 2023.

(8) WEQ-007, Inadvertent Interchange Payback, Version 004, July 31, 2023.

(9) WEQ-008, Transmission Loading Relief (TLR)—Eastern Interconnection, Version 004, July 31, 2023.

(10) WEQ-011, Gas/Electric Coordination, Version 004, July 31, 2023.

(11) WEQ-012, Public Key Infrastructure (PKI), Version 004, July 31, 2023.

(12) WEQ-013, Open Access Same-Time Information Systems (OASIS) Implementation Guide, Version 004, July 31, 2023.

(13) WEQ-015, Measurement and Verification (M&V) of Wholesale Electricity Demand Response (DR), Version 004, July 31, 2023.

(14) WEQ-021, Measurement and Verification (M&V) of Energy Efficiency Products, Version 004, July 31, 2023.

(15) WEQ-022, Electric Industry Registry, Version 004, July 31, 2023.

(16) WEQ-023, Modeling, Version 004, July 31, 2023.

(17) WEQ-024, Cybersecurity, Version 004, July 31, 2023.

Note: The following appendices will not appear in the Code of Federal Regulations.

Appendix 1: Tariff Record Incorporating the NAESB cybersecurity standards, WEQ Version 004

The NAESB WEQ Business Practice Standards; Standards and Models the Commission incorporates by reference, effective February 27, 2026, are as follows:

(i) WEQ-000, Abbreviations, Acronyms, and Definition of Terms (WEQ Version 003.1, September 30, 2015) (including only the definitions of Interconnection Time Monitor, Time Error, and Time Error Correction);

(ii) WEQ-000, Abbreviations, Acronyms, and Definition of Terms (WEQ Version 003.3, March 30, 2020);

(iii) WEQ-001, Open Access Same-Time Information Systems (OASIS), (WEQ Version 003.3, March 30, 2020);

(iv) WEQ-002, Open Access Same-Time Information Systems (OASIS) Business Practice Standards and Communication Protocols (S&CP), (WEQ Version 003.3, March 30, 2020);

(v) WEQ-003, Open Access Same-Time Information Systems (OASIS) Data Dictionary, (WEQ Version 003.3, March 30, 2020);

(vi) WEQ-004, Coordinate Interchange (WEQ Version 003.3, March 30, 2020);

(vii) WEQ-005, Area Control Error (ACE) Equation Special Cases (WEQ Version 003.3, March 30, 2020);

(viii) WEQ-006, Manual Time Error Correction (WEQ Version 003.1, Sept. 30, 2015);

(ix) WEQ-007, Inadvertent Interchange Payback (WEQ Version 003.3, March 30, 2020);

(x) WEQ-008, Transmission Loading Relief (TLR)—Eastern Interconnection (WEQ Version 003.3, March 30, 2020);

(xi) WEQ-011, Gas/Electric Coordination (WEQ Version 003.3, March 30, 2020);

(xii) WEQ-012, Public Key Infrastructure (PKI) (WEQ Version 003.3, March 30, 2020);

(xiii) WEQ-013, Open Access Same-Time Information Systems (OASIS) Implementation Guide, (WEQ Version 003.3, March 30, 2020);

(xiv) WEQ-015, Measurement and Verification of Wholesale Electricity Demand Response (WEQ Version 003.3, March 30, 2020);

(xv) WEQ-021, Measurement and Verification of Energy Efficiency Products (WEQ Version 003.3, March 30, 2020);

(xvi) WEQ-022, Electric Industry Registry (WEQ Version 003.3, March 30, 2020);

(xvii) WEQ-023, Modeling. (WEQ Version 003.3, March 30, 2020);

(xviii) WEQ-024, Cybersecurity, Version 004, July 31, 2023.

Appendix 2: Tariff Record Incorporating the NAESB standards, WEQ Version 004

The NAESB WEQ Business Practice Standards; Standards and Models the Commission incorporates by reference, effective August 27, 2026, are as follows:

(i) WEQ-000, Abbreviations, Acronyms, and Definition of Terms, Version 004, July 31, 2023.

(ii) WEQ-001, Open Access Same-Time Information Systems (OASIS), Version 004, July 31, 2023, (including Minor Correction MC24002 applied August 9, 2024).

(iii) WEQ-002, Open Access Same-Time Information Systems (OASIS) Business Practice Standards and Communication Protocol (S&CP), Version 004, July 31, 2023.

(iv) WEQ-003, Open Access Same-Time Information Systems (OASIS) Data Dictionary, Version 004, July 31, 2023.

(v) WEQ-004, Coordinate Interchange, Version 004, July 31, 2023.

(vi) WEQ-005, Area Control Error (ACE) Equation Special Cases, Version 004, July 31, 2023.

(vii) WEQ-006, Manual Time Error Correction, Version 004, July 31, 2023.

(viii) WEQ-007, Inadvertent Interchange Payback, Version 004, July 31, 2023.

(ix) WEQ-008, Transmission Loading Relief (TLR)—Eastern Interconnection, Version 004, July 31, 2023.

(x) WEQ-011, Gas/Electric Coordination, Version 004, July 31, 2023.

(xi) WEQ-012, Public Key Infrastructure (PKI), Version 004, July 31, 2023.

(xii) WEQ-013, Open Access Same-Time Information Systems (OASIS) Implementation Guide, Version 004, July 31, 2023.

(xiii) WEQ-015, Measurement and Verification (M&V) of Wholesale Electricity Demand Response (DR), Version 004, July 31, 2023.

(xiv) WEQ-021, Measurement and Verification (M&V) of Energy Efficiency Products, Version 004, July 31, 2023.

(xv) WEQ-022, Electric Industry Registry, Version 004, July 31, 2023.

(xvi) WEQ-023, Modeling, Version 004, July 31, 2023.

(xvii) WEQ-024, Cybersecurity, Version 004, July 31, 2023.

[FR Doc. 2025-03085 Filed 2-26-25; 8:45 am]

BILLING CODE 6717-01-P